DEPARTMENT OF ENERGY

Federal Energy Regulatory Commission

[Docket No. OR02-4-000]

Chevron Products Company, Complainant, v. SFPP, L.P., Respondent; Notice of Complaint

February 12, 2002.

Take notice that on February 11, 2002, pursuant to rule 206 of the Commission's rules of practice and procedure (18 CFR 385.206) and the Procedural Rules Applicable to Oil Pipeline Procedures (18 CFR 343(a)(1)), Chevron Products Company (Chevron) filed a complaint in this proceeding. Chevron alleges that SFPP, L.P. (SFPP) has been and is in violation of the Interstate Commerce Act, 49 U.S.C. App. Section 1, et seq. (ICA), by charging unjust and unreasonable rates for the shipment of petroleum products in interstate commerce, particularly from points in Texas and in California to points in Arizona.

Chevron requests that the Commission (1) determine just and reasonable rates for shipment of petroleum products on SFPP's East and West Lines, (2) order refunds, reparations, damages and other just and appropriate relief, including but not limited to the reasonable costs of litigation, (3) consolidate its Complaint with ongoing proceedings in Docket Nos. OR96-2-000, et al., and (4) examine existing SFPP rates and charges for shipment of petroleum products on the East and West Lines and determine that such are unjust, unreasonable and otherwise not in accordance with applicable law.

Chevron has served a copy of the Complaint on SFPP.

Any person desiring to be heard or to protest this filing should file a motion to intervene or protest with the Federal Energy Regulatory Commission, 888 First Street, NE., Washington, DC 20426, in accordance with rules 211 and 214 of the Commission's rules of practice and procedure (18 CFR 385.211 and 385.214). All such motions or protests must be filed on or before March 4, 2002. Protests will be considered by the Commission in determining the appropriate action to be taken, but will not serve to make protestants parties to the proceeding. Any person wishing to become a party must file a motion to intervene. Answers to the complaint shall also be due on or before March 4, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Magalie R. Salas,
Secretary.

[FR Doc. 02-3908 Filed 2-15-02; 8:45 am]

BILLING CODE 6717-01-P